DEPARTMENT OF TRANSPORTATION

Federal Transit Administration

49 CFR Part 611

[Docket No. FTA-2010-0009]

RIN 2132-AB02

Major Capital Investment Projects (NPRM); Public Meetings

AGENCY: Federal Transit Administration (FTA), DOT.

ACTION: Proposed rule, Notice of Public Meeting.

SUMMARY: This document announces the dates, times, and locations of three public meetings and a webinar regarding the Notice of Proposed Rulemaking (NPRM) recently issued by the Federal Transit Administration (FTA) for its discretionary Major Capital Investments program (“New Starts” and “Small Starts”). During these sessions, FTA staff will provide information on the NPRM and answer questions from interested persons.

DATES: See SUPPLEMENTARY INFORMATION section for meeting and webinar dates.

FOR FURTHER INFORMATION CONTACT: Elizabeth Day, Office of Planning and Environment, (202) 366-5159; for questions of a legal nature, Christopher Van Wyk, Office of Chief Counsel, (202) 366-1733. FTA is located at 1200 New Jersey Avenue SE., Washington, DC 20590. Office hours are from 9 a.m. to 5:30 p.m., EST, Monday through Friday, except Federal holidays.

ADDRESSES: See SUPPLEMENTARY INFORMATION section for the meeting locations.

SUPPLEMENTARY INFORMATION: On January 25, 2012, FTA issued an NPRM (77 FR 3848) that proposes a new regulatory framework for evaluation and rating of New Starts and Small Starts projects seeking Federal financial assistance. This NPRM would amend the regulations for Major Capital Investment Projects at 49 CFR 611. The docket for comments on the NPRM is open through March 26, 2012. The meetings and webinar listed below will provide a forum for FTA staff to make oral presentations on the NPRM and for participants to ask questions. Additionally, the sessions are intended to encourage interested parties and stakeholders to submit their comments directly to the official docket per the instructions found in the January 25, 2012, NPRM.

I. Meetings

Information on the public outreach session meeting dates and addresses follows:

1. Wednesday, February 15, 2012: Cityplace Conference Center, 10 a.m. to 2 p.m. Central, 2711 North Haskell Avenue, Dallas Texas 75204.

2. Thursday, February 16, 2012: San Diego County Administration Building, 10 a.m. to 2 p.m. Pacific, 1600 Pacific Highway, San Diego, California 92101.

3. Thursday, February 23, 2012: MARTA Headquarters Atrium, 10 a.m. to 2 p.m. Eastern, 2424 Piedmont Road NE., Atlanta, Georgia 30324.

II. Webinar

FTA will host a webinar on Tuesday, February 28, 2012. Additional information on the time the webinar will be held and instructions for obtaining access to the webinar will be posted on FTA's Web site at http://www.dot.fta.gov.

III. Format of the Meetings and Webinar

FTA staff will make presentations on the NPRM, and participants in the public meetings and webinar will have an opportunity to pose questions to the FTA staff. Neither the three meetings nor the webinar will be a forum for submitting comments on the NPRM. It is the responsibility of individuals who wish for their comments to become part of the official public record to submit their comments directly to the official docket for the rulemaking. Instructions for doing so can be found in the January 25, 2012 NPRM.

III. Registration

Registration is not required in order to attend one of the public meetings or participate in the webinar. To ensure adequate space and handouts, however, persons who intend to participate in the public meetings are encouraged to register for the outreach sessions on FTA's web site at http://www.dot.fta.gov.

IV. Special Accommodations

All locations are ADA-accessible. Individuals attending a meeting who are hearing or visually impaired and have special requirements or require special assistance may contact Elizabeth Day at (202) 366-5159 or Elizabeth.Day@dot.gov.

Issued in Washington, DC, on this 31st day of January 2012.
Peter Rogoff,
Federal Transit Administrator.

[FR Doc. 2012-2565 Filed 2-3-12; 8:45 am]

BILLING CODE 4910-57-P